ENVIRONMENTAL PROTECTION AGENCY

40 CFR Part 63

National Emission Standards for Hazardous Air Pollutants for Source Categories

CFR Correction

In Title 40 of the Code of Federal Regulations, Part 63 (§§ 63.600 to 63.1199), revised as of July 1, 2006, in § 63.1103, paragraph (e)(2), on page 547, in alphabetical order, add the definition of “Organic HAP” to read as follows:

§ 63.1103 Source category-specific applicability, definitions, and requirements.

* * * * *

(e)* * *

(2)* * *

Organic HAP means the compounds listed in Table 1 to subpart XX of this part.

* * * * *

[FR Doc. 07-55506 Filed 6-28-07; 8:45 am]

BILLING CODE 1505-01-D